DEPARTMENT OF COMMERCE

Patent and Trademark Office

Agency Information Collection Activities; Submission to the Office of Management and Budget for Review and Approval; Comment Request; Complaints Regarding Invention Promoters

AGENCY: United States Patent and Trademark Office, Department of Commerce.

ACTION: Notice of information collection; request for comments.

SUMMARY: The United States Patent and Trademark Office (USPTO) will submit the following information collection request to the Office of Management and Budget (OMB) for review and clearance in accordance with the Paperwork Reduction Act of 1995, on or after the date of publication of this notice. The USPTO invites comments on this information collection renewal of 0651-0044 (Complaints Regarding Invention Promoters), which helps the USPTO assess the impact of its information collection requirements and minimize the public's reporting burden. Public comments were previously requested via the Federal Register on May 19, 2025, during a 60-day comment period (90 FR 21295) This notice allows for an additional 30 days for public comment.

DATES: To ensure consideration, you must submit comments regarding this information collection on or before September 22, 2025.

ADDRESSES: Written comments and recommendations for this information collection should be submitted within 30 days of the publication of this notice on the following website, www.reginfo.gov/public/do/PRAMain. Find this particular information collection by selecting “Currently under 30-day Review—Open for Public Comments” or by using the search function and entering either the title of the information collection or the OMB Control Number, 0651-0044. Do not submit Confidential Business Information or otherwise sensitive or protected information.

FOR FURTHER INFORMATION CONTACT:

• This information collection request may be viewed at www.reginfo.gov/public/do/PRAMain. Follow the instructions to view Department of Commerce, USPTO information collections currently under review by OMB.

• Email: InformationCollection@uspto.gov. Include “0651-0044 information request” in the subject line of the message.

• Mail: Justin Isaac, Office of the Chief Administrative Officer, United States Patent and Trademark Office, P.O. Box 1450, Alexandria, VA 22313-1450.

• Telephone: Toni Krasnic, Office of Patents Stakeholder Experience, 571-272-7182.

SUPPLEMENTARY INFORMATION:

Agency: United States Patent and Trademark Office, Department of Commerce.

Title: Complaints Regarding Invention Promoters.

OMB Control Number: 0651-0044.

Needs and Uses: Pursuant to the Inventors' Rights Act of 1999, 35 U.S.C. 297, and implementing regulations at 37 CFR, Part 4, the United States Patent and Trademark Office (USPTO) is required to provide a form for the publication of complaints concerning invention promoters. Upon receipt of a complaint, the USPTO will forward it to the invention promoter for a response. The USPTO does not investigate these complaints or participate in any legal proceedings against invention promoters or invention promotion companies. Under the Inventors' Rights Act, the USPTO is responsible only for publishing complaints and responses on the USPTO website, making them available to the public.

A complaint submitted to the USPTO must be clearly marked, or otherwise identified, as a complaint. The complaint must include:

(1) the name and address of the complainant;

(2) the name and address of the invention promoter;

(3) the name of the customer;

(4) the invention promotion services offered or performed by the invention promoter;

(5) the name of the mass media in which the invention promoter advertised such services;

(6) an example of the relationship between the customer and the invention promoter; and

(7) a signature of the complainant.

Identifying information is necessary so that the USPTO can both forward the complaint to the invention promoters or invention promotion companies as well as notify the complainant that the complaint has been forwarded. Complainants should understand that the complaints will be forwarded to the invention promoter for response and that the complaint and response will be made available to the public as required by the Inventors' Rights Act. If the USPTO does not receive a response from the invention promoter within 30 days, the complaint will be published without a response. Under this program, the USPTO does not accept complaints that request confidentiality. The USPTO may refer submitted complaints to the USPTO Office of Enrollment and Discipline, as appropriate.

This information collection contains one form, PTO/2048A (Complaint Regarding Invention Promotion), which is used by the public to submit a complaint under this program. This form is available for download from the USPTO website. Use of this form is voluntary.

Complainants may submit a complaint without the form as long as the complaint includes the necessary information and the submission is clearly marked as a complaint filed under the Inventors' Rights Act. Invention promotion firms may use any format when responding to a submitted complaint; there is no associated USPTO form. Complaints and responses are posted at https://www.uspto.gov/patents/basics/using-legal-services/scam-prevention/published-complaints/published. Although the USPTO typically receives only a few complaints each year, that number is expected to rise given the recent announcement of new efforts to mitigate threats and protect the integrity of the U.S. patent system: https://www.uspto.gov/patents/fraud.

The name of this information collection is being changed from “Invention Promoters/Promotion Firm Complaints” to “Complaints Regarding Invention Promoters' to better align with how this program is usually referenced.

Forms

• PTO/2048A (Complaint Regarding Invention Promoter).

Type of Review: Extension of a currently approved information collection.

Affected Public: Individuals and households; Private sector.

Respondent's Obligation: Voluntary.

Frequency: On occasion.

Estimated Number of Annual Respondents: 22 respondents.

Estimated Number of Annual Responses: 22 responses.

Estimated Time per Response: The USPTO estimates that the responses in this information collection will take the public approximately 15 minutes (0.25 hours) to 30 minutes (0.50 hours). This includes the time to gather the necessary information, create the document, and submit the completed items to the USPTO.

Estimated Total Annual Respondent Burden Hours: 8 hours.

Estimated Total Annual Respondent Non-hourly Cost Burden: $9.

Justin Isaac,
Information Collections Officer, Office of the Chief Administrative Officer, United States Patent and Trademark Office.

[FR Doc. 2025-16000 Filed 8-20-25; 8:45 am]

BILLING CODE 3510-16-P